DEPARTMENT OF ENERGY

Federal Energy Regulatory Commission

Combined Notice of Filings #1

Take notice that the Commission received the following electric corporate filings:

Docket Numbers: EC17-60-000.

Applicants: TerraForm Private LLC, Meadow Creek Project Company LLC, Goshen Phase II LLC, Wolverine Creek Goshen Interconnection LLC, Canadian Hills Wind, LLC, Rockland Wind Farm LLC, Burley Butte Wind Park, LLC, Golden Valley Wind Park, LLC, Milner Dam Wind Park, LLC, Oregon Trail Wind Park, LLC, Pilgrim Stage Station Wind Park, LLC, Thousand Springs Wind Park, LLC, Tuana Gulch Wind Park, LLC, Camp Reed Wind Park, LLC, Payne's Ferry Wind Park, LLC, Salmon Falls Wind Park, LLC, Yahoo Creek Wind Park, LLC.

Description: Application for Authorization Under Section 203 of the Federal Power Act and Requests for Expedited Action and Waivers of Filing Requirements of TerraForm Private LLC.

Filed Date: 1/6/17.

Accession Number: 20170106-5187.

Comments Due: 5 p.m. ET 1/27/17.

Take notice that the Commission received the following electric rate filings:

Docket Numbers: ER10-2984-031.

Applicants: Merrill Lynch Commodities, Inc.

Description: Notice of Non-Material Change in Status of Merrill Lynch Commodities, Inc.

Filed Date: 1/6/17.

Accession Number: 20170106-5191.

Comments Due: 5 p.m. ET 1/27/17.

Docket Numbers: ER15-1387-003.

Applicants: PJM Interconnection, L.L.C.

Description: Compliance filing: Compliance per 12/9/2016 Order-ER15-1387-002 Sch. 12-Appx A Form 715 Criteria to be effective 5/25/2015.

Filed Date: 1/9/17.

Accession Number: 20170109-5208.

Comments Due: 5 p.m. ET 1/30/17.

Docket Numbers: ER17-75-003.

Applicants: PJM Interconnection, L.L.C.

Description: Tariff Amendment: Substitute Second Revised Service Agreement No. 3837 to be effective 10/1/2016.

Filed Date: 1/6/17.

Accession Number: 20170106-5162.

Comments Due: 5 p.m. ET 1/20/17.

Docket Numbers: ER17-214-001.

Applicants: Mid-Atlantic Interstate Transmission, LLC, PJM Interconnection, L.L.C.

Description: Tariff Amendment: MAIT's Response to Deficiency Letter issued Dec. 8, 2016 in ER17-214 to be effective 2/1/2017.

Filed Date: 1/6/17.

Accession Number: 20170106-5153.

Comments Due: 5 p.m. ET 1/27/17.

Docket Numbers: ER17-216-001.

Applicants: Mid-Atlantic Interstate Transmission, LLC, PJM Interconnection, L.L.C.

Description: Tariff Amendment: MAIT's Response to Deficiency Letter issued Dec. 28, 2016 in ER17-216 to be effective 2/1/2017.

Filed Date: 1/6/17.

Accession Number: 20170106-5171.

Comments Due: 5 p.m. ET 1/27/17.

Docket Numbers: ER17-311-000.

Applicants: SR South Loving LLC.

Description: Third Supplement to November 4, 2016 SR South Loving LLC tariff filing.

Filed Date: 1/6/17.

Accession Number: 20170106-5195.

Comments Due: 5 p.m. ET 1/13/17.

Docket Numbers: ER17-740-001.

Applicants: Southern California Edison Company.

Description: Tariff Amendment: Resubmit Amended SGIA Pearblossom to be effective 12/16/2016.

Filed Date: 1/6/17.

Accession Number: 20170106-5066.

Comments Due: 5 p.m. ET 1/27/17.

Docket Numbers: ER17-758-000.

Applicants: New York Independent System Operator, Inc.

Description: Application for tariff waiver of Services Tariff Sections 17.1.1 and 17.14 of the New York Independent System Operator, Inc.

Filed Date: 1/6/17.

Accession Number: 20170106-5188.

Comments Due: 5 p.m. ET 1/27/17.

Docket Numbers: ER17-759-000.

Applicants: Appleton Coated LLc.

Description: Baseline eTariff Filing: Appleton Coated Initial Baseline Filing to be effective 3/10/2017.

Filed Date: 1/9/17.

Accession Number: 20170109-5203.

Comments Due: 5 p.m. ET 1/30/17.

Docket Numbers: ER17-760-000.

Applicants: Commonwealth Edison Company, PJM Interconnection, L.L.C.

Description: § 205(d) Rate Filing: ComEd Transmission Interconnection Agreement SA No. 4582 with ATXI to be effective 1/9/2017.

Filed Date: 1/9/17.

Accession Number: 20170109-5227.

Comments Due: 5 p.m. ET 1/30/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 9, 2017.
Kimberly D. Bose,
Secretary.

[FR Doc. 2017-00936 Filed 1-17-17; 8:45 am]

BILLING CODE 6717-01-P